DEPARTMENT OF VETERANS AFFAIRS

Advisory Committee on Prosthetics and Special Disabilities Programs; Notice of Meeting

The Department of Veterans Affairs (VA) gives notice under the Public Law 92-463 (Federal Advisory Committee Act) that a meeting of the Advisory Committee on Prosthetics and Special Disabilities Programs will be held November 9-10, 2004, at VA Headquarters, 810 Vermont Avenue, NW., Room 830, Washington, DC. Meeting sessions will convene at 8:30 a.m. on both days and will adjourn at 4:30 p.m. on November 9 and at 12 noon on November 19. The meeting is open to the public.

The purpose of the Committee is to advise the Secretary of Veterans Affairs on VA's prosthetic programs designed to provide state-of-the-art prosthetics and the associated rehabilitation research, development, and evaluation of such technology. The Committee also provides advice to the Secretary on special disability programs which are defined as any program administered by the Secretary to serve veterans with spinal cord injury, blindness or vision impairment, loss of or loss of use of extremities, deafness or hearing impairment, or other serious incapacities in terms of daily life functions.

On the morning of November 9, the Committee will be briefed by the Chief Consultants, Rehabilitation Strategic Healthcare Group and Prosthetics and Sensory Aids. In the afternoon, the Committee will be briefed by the directors of VA's special disabilities programs (physical medicine and rehabilitation, audiology and speech pathology), and the national program directors of VA's ophthalmology and optometry programs. On the morning of November 10, the Committee will be briefed by the Director Rehabilitation Research and Development, and will subsequently discuss the annual Capacity Report as well as transition issues and benefits.

No time will be allocated for receiving oral presentations from the public. However, members of the public may direct questions or submit written statements for review by the Committee in advance of the meeting to Ms. Cynthia Wade, Veterans Health Administration, Patient Care Services, Rehabilitation Strategic Healthcare Group (117), Department of Veterans Affairs, 810 Vermont Avenue, NW., Washington, DC 20420. Any member of the public wishing to attend the meeting should contact Ms. Wade at (202) 273-8485.

Dated: September 20, 2004.
E. Philip Riggin,
Committee Management Officer.

[FR Doc. 04-21542 Filed 9-24-04; 8:45 am]

BILLING CODE 8320-01-M